DEPARTMENT OF HOMELAND SECURITY

Coast Guard

[Docket No. USCG-2024-0388]

National Offshore Safety Advisory Committee; Vacancy

AGENCY: United States Coast Guard, Department of Homeland Security.

ACTION: Notice; request for application.

SUMMARY: The U.S. Coast Guard is accepting applications to fill one vacancy on the National Offshore Safety Advisory Committee (Committee). This Committee advises the Secretary of Homeland Security, via the Commandant of the U.S. Coast Guard on matters relating to activities directly involved with, or in support of, the exploration of offshore mineral and energy resources, to the extent that such matters are within the jurisdiction of the U.S. Coast Guard.

DATES: Completed applications must reach the U.S. Coast Guard on or before September 20, 2024.

ADDRESSES: Applications must include: (a) a cover letter expressing interest in an appointment to the National Offshore Safety Advisory Committee, (b) a resume detailing the applicant's relevant experience for the position applied for, and (c) a brief biography. Applications should be submitted via email with subject line “NOSAC Vacancy Application” to Justin.P.Goff@uscg.mil.

FOR FURTHER INFORMATION CONTACT: Lieutenant Justin Goff, Alternate Designated Federal Officer of the National Offshore Safety Advisory Committee; telephone 571-610-0130 or email at Justin.P.Goff@uscg.mil.

SUPPLEMENTARY INFORMATION: The National Offshore Safety Advisory Committee is a Federal advisory committee. The Committee was established by section 601 of the Frank LoBiondo Coast Guard Authorization Act of 2018 (Pub. L. 115-282, 132 Stat. 4192), and amended by section 8331 of the Elijah E. Cummings Coast Guard Authorization Act of 2020 (Pub. L. 116-283, 134 Stat. 4702) and is codified in 46 U.S.C. 15106. The Committee operates under the provisions of the Federal Advisory Committee Act and 46 U.S.C. 15109. The Committee provides advice and recommendations to the Secretary of Homeland Security on matters relating to activities directly involved with, or in support of, the exploration of offshore mineral and energy resources, to the extent that such matters are within the jurisdiction of the U.S. Coast Guard.

The Committee is required to meet at least once a year in accordance with 46 U.S.C. 15109(a). We expect the Committee to meet at least twice a year, but it may meet more frequently. The meetings are generally held in Houston, Texas and New Orleans, Louisiana.

Under provisions in 46 U.S.C. 15109(f)(6), if you are appointed as a member of the Committee, your membership term will expire on December 31st of the third full year after the effective date of your appointment. Under provisions in 46 U.S.C. 15109(f)(4), the Secretary of Homeland Security may require an individual to have passed an appropriate security background examination before appointment to the Committee.

All members serve at their own expense and receive no salary or other compensation from the Federal Government. If you are appointed as a member of the Committee, you will be required to sign a Non-Disclosure Agreement and a Gratuitous Services Agreement.

In this solicitation for Committee Members, we will consider applications for the following position:

One member representing entities engaged in the support, by offshore supply vessels or other vessels, of offshore operations; The member who will fill the position described above will be appointed to represent the interest of their respective groups and viewpoints and are not Special Government Employees as defined in 18 U.S.C. 202(a).

In order for the Department, to fully leverage broad-ranging experience and education, the National Offshore Safety Advisory Committee must be diverse with regard to professional and technical expertise. The Department is committed to pursuing opportunities, consistent with applicable law, to compose a committee that reflects the diversity of the Nation's people.

The U.S. Coast Guard will not consider incomplete or late applications.

Privacy Act Statement

Purpose: To obtain qualified applicants to fill one vacancy on the National Offshore Safety Advisory Committee. When you apply for appointment to the DHS' National Offshore Safety Advisory Committee, DHS collects your name, contact information, and any other personal information that you submit in conjunction with your application. DHS will use this information to evaluate your candidacy for Committee membership. If you are chosen to serve as a Committee member, your name will appear in publicly-available Committee documents, membership lists, and Committee reports.

Authorities: 14 U.S.C. 504; 46 U.S.C. 15106 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57639, October 3, 2008).

Consequences of Failure to Provide Information: Furnishing this information is voluntary. However, failure to furnish the requested information may result in your application not being considered for the Committee.

Dated: July 15, 2024.
Jeffrey G. Lantz,
Director of Commercial Regulations and Standards.

[FR Doc. 2024-16036 Filed 7-19-24; 8:45 am]

BILLING CODE 9110-04-P